DEPARTMENT OF TRANSPORTATION

Federal Aviation Administration

14 CFR Part 39

[Docket No. 2000-NE-08-AD]

RIN 2120-AA64

Airworthiness Directives; Hartzell Propeller Inc. Compact Series Propellers

AGENCY: Federal Aviation Administration (FAA), DOT.

ACTION: Notice of proposed rulemaking (NPRM).

SUMMARY: The FAA proposes to supersede an existing airworthiness directive (AD) for Hartzell Propeller Inc. models ( )HC-( )( )Y( )-( )( )( ) compact series, constant speed or feathering propellers with Hartzell manufactured “Y” shank aluminum blades. That AD currently requires initial blade inspections, with no repetitive inspections; rework of all “Y” shank aluminum blades including cold rolling of the blade shank retention radius, blade replacement and modification of pitch change mechanisms for certain propeller models; and changing the airplane operating limitations with specific models of propellers installed. This proposed AD would require the same actions but would clarify certain areas of the compliance and would update a certain service bulletin (SB) reference to the most recent SB. This proposed AD results from operators requesting clarification of certain portions of AD 2002-09-08. We are proposing this AD to prevent failure of the propeller blade from fatigue cracks in the blade shank radius, which can result in damage to the airplane and loss of airplane control.

DATES: We must receive any comments on this proposed AD by October 13, 2006.

ADDRESSES: Use one of the following addresses to comment on this proposed AD:

• By mail: Federal Aviation Administration (FAA), New England Region, Office of the Regional Counsel, Attention: Rules Docket No. 2000-NE-08-AD, 12 New England Executive Park, Burlington, MA 01803.

• By fax: (781) 238-7055.

• By e-mail: 9-ane-adcomment@faa.gov.

You can get the service information identified in this proposed AD from Hartzell Propeller Inc. Technical Publications Department, One Propeller Place, Piqua, OH 45356; telephone (937) 778-4200; fax (937) 778-4391.

You may examine the AD docket at the FAA, New England Region, Office of the Regional Counsel, 12 New England Executive Park, Burlington, MA.

FOR FURTHER INFORMATION CONTACT: Melissa T. Bradley, Aerospace Engineer, Chicago Aircraft Certification Office, FAA, Small Airplane Directorate, 2300 East Devon Avenue, Des Plaines, IL 60018-4696; telephone (847) 294-8110; fax (847) 294-7834.

SUPPLEMENTARY INFORMATION:

Comments Invited

We invite you to send any written relevant data, views, or arguments regarding this proposal. Send your comments to an address listed under ADDRESSES. Include “AD Docket No. 2000-NE-08-AD” in the subject line of your comments. If you want us to acknowledge receipt of your mailed comments, send us a self-addressed, stamped postcard with the docket number written on it; we will date-stamp your postcard and mail it back to you. We specifically invite comments on the overall regulatory, economic, environmental, and energy aspects of the proposed AD. If a person contacts us verbally, and that contact relates to a substantive part of this proposed AD, we will summarize the contact and place the summary in the docket. We will consider all comments received by the closing date and may amend the proposed AD in light of those comments.

Examining the AD Docket

You may examine the AD Docket (including any comments and service information), by appointment, between 8 a.m. and 4:30 p.m., Monday through Friday, except Federal holidays. See ADDRESSES for the location.

Discussion

On April 24, 2002, we issued AD 2002-09-08, Amendment 39-12741 (67 FR 31113, May 9, 2002). That AD requires, for Hartzell models ( )HC-( )( )Y( )-( )( )( ) compact series, constant speed or feathering propellers with Hartzell manufactured “Y” shank aluminum blades:

• Initial blade inspections, with no repetitive inspections;

• Rework of all “Y” shank blades including cold rolling of the blade shank retention radius;

• Blade replacement and modification of pitch change mechanisms for certain propeller models; and

• Changing the airplane operating limitations with specific models of propellers installed.

That AD resulted from FAA reviews of propeller service histories since issuing AD 77-12-06R2. The reviews included reports of fatigue cracks that might result in blade separation. That condition, if not corrected, could result in failure of the propeller blade from fatigue cracks in the blade shank radius, which can result in damage to the airplane and loss of airplane control.

Actions Since AD 2002-09-08 Was Issued

Since that AD was issued, operators have requested:

• Clarification that the affected blades are aluminum;

• Clarification as to what are the correct identification letters stamped on the blades;

• Clarification that if AD 77-12-06 was complied with, then no further action is required; and

• The addition of Hartzell Propeller Inc. Service Bulletin No. HC-SB-61-118, Revision E, and HC-SB-61-118, Revision F, to the list of approved alternative methods of compliance to SB No. 118A.

We have made these clarifications and additions in the proposed AD.

FAA's Determination and Requirements of the Proposed AD

We have evaluated all pertinent information and identified an unsafe condition that is likely to exist or develop on other products of this same type design. We are proposing this AD, which would require initial blade inspections, with no repetitive inspections; rework of all “Y” shank blades including cold rolling of the blade shank retention radius, blade replacement and modification of pitch change mechanisms for certain propeller models; and changing the airplane operating limitations with specific models of propellers installed.

Costs of Compliance

We estimate that this proposed AD would affect 35,750 propellers installed on airplanes of U.S. registry. We expect that all of the affected propellers should have already been inspected to comply with the existing AD's requirements to inspect, and rework or replace the blades. If these actions have not already been done, then the total cost to comply with this proposed AD is estimated to be $700 per propeller.

Special Flight Permits Paragraph Removed

Paragraph (f) of the current AD, AD 2002-09-08, contains a paragraph pertaining to special flight permits. Even though this final rule does not contain a similar paragraph, we have made no changes with regard to the use of special flight permits to operate the airplane to a repair facility to do the work required by this AD. In July 2002, we published a new part 39 that contains a general authority regarding special flight permits and airworthiness directives; see Docket No. FAA-2004-8460, Amendment 39-9474 (69 FR 47998, July 22, 2002). Thus, when we now supersede ADs we will not include a specific paragraph on special flight permits unless we want to limit the use of that general authority granted in section 39.23.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary by sending a request to us at the address listed under ADDRESSES. Include “AD Docket No. 2000-NE-08-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-12741 (67 FR 31113, May 9, 2002) and by adding a new airworthiness directive to read as follows:

Hartzell Propeller Inc.: Docket No. 2000-NE-08-AD.

Comments Due Date

(a) The Federal Aviation Administration (FAA) must receive comments on this airworthiness directive (AD) action by October 13, 2006.

Affected ADs

(b) This AD supersedes AD 2002-09-08, Amendment 39-12741.

Applicability

(c) This AD applies to Hartzell Propellers Inc. models ( )HC-( )( )Y( )-( )( )( ) compact series constant speed or feathering propellers with Hartzell manufactured “Y” shank aluminum blades. These propellers are used on, but not limited to, the following airplanes:

Manufacturer | Airplane model
Aermacchi S.pA. (formerly Siai-Marchetti) | S-208.
Aero Commander | 200B and 200D.
Aerostar | 600.
Beech | 24, 35, 36, 45, 55, 56TC, 58, 60, and 95.
Bellanca | 14 and 17 series.
Cessna | 182 and 188.
Embraer | EMB-200A.
Maule | M5.
Mooney | M20 and M22.
Pilatus Britten Norman, or Britten Norman | BN-2, BN-2A, and BN-2A-6.
Piper | PA-23, PA-24, PA-28, PA-30, PA-31, PA-32, PA-34, PA-36, and PA-39.
Pitts | S-1T and S-2A.
Rockwell | 112, 114, 200, 500, and 685 series.

(d) The parentheses appearing in the propeller model number indicates the presence or absence of an additional letter(s) that varies the basic propeller model. This AD applies regardless of whether these letters are present or absent in the propeller model designation.

Unsafe Condition

(e) This AD results from operators requesting clarification of certain portions of AD 2002-09-08. We are issuing this AD to prevent failure of the propeller blade from fatigue cracks in the blade shank radius, which can result in damage to the airplane and loss of airplane control.

Compliance

(f) You are responsible for having the actions required by this AD performed within the compliance times specified unless the actions have already been done.

(g) If the propeller maintenance records show compliance with AD 77-12-06R2, then compliance was previously done and no further action is required.

(h) Propellers are considered in compliance with the onetime inspection and rework requirements only, of this AD if:

(1) All blades are serial number D47534 and above, or

(2) All blades are identified with the letters “PR” or “R” which are ink-stamped on the camber side, or the letters “RD” which are metal-stamped on the blade butt.

Models ( )HC-( )( )Y( ) Compact Series “Y” Shank Propellers

(i) If propeller models ( )HC-( )( )Y( ) have not been inspected and reworked in accordance with AD 77-12-06R2, then before further flight, do a onetime action to remove, inspect, rework, or replace blades if necessary using Hartzell Service Bulletin (SB) No. 118A, dated February 15, 1977.

Propeller Blade Shank Cold Rolling

Note 1: One requirement in Hartzell SB No. 118A is the cold rolling of the propeller blade shank. This is a critical requirement in the prevention of cracks in the blade. Propeller repair shops must obtain and maintain proper certification to perform the cold rolling procedure. For a current list of propeller overhaul facilities approved to perform the blade shank cold rolling procedure, contact Hartzell Product Support, telephone: (937) 778-4200. Not all propeller repair facilities have the equipment to properly perform a cold roll of the blade shanks. In addition, any rework in the blade shank area will also necessitate the cold rolling of the blade shank area, apart from the onetime cold rolling requirement of this AD.

Instrument Panel Modifications

(j) If airplanes with propeller models ( )HC-C2YK-( )( )( )/( )( )7666A-( ), installed on (undampered) 200 horsepower Lycoming IO-360 series engines, have not been modified using AD 77-12-06R2, then modify the airplane instrument panel according to the following subparagraphs before further flight. Airplanes include, but are not limited to, Mooney M20E and M20F (normal category), Piper PA-28R-200 (normal category), and Pitts S-1T and S-2A (acrobatic category).

(1) For normal category airplanes, before further flight, remove the present vibration placard and affix a new placard near the engine tachometer that states:

“Avoid continuous operation:

Between 2,000 and 2,350 rpm.”

(2) For utility and acrobatic category airplanes, before further flight, remove the present vibration placard and affix a new placard near the engine tachometer that states:

“Avoid continuous operation:

Between 2,000 and 2,350 rpm.

Above 2,600 rpm in acrobatic flight.”

(3) For normal category airplanes, re-mark the engine tachometer face or bezel with a red arc for the restricted engine speed range, between 2,000 and 2,350 rpm.

(4) For acrobatic and utility airplanes, re-mark the engine tachometer face or bezel with a red arc for each restricted engine speed range, i.e., between 2,000 and 2,350 rpm and between 2,600 and 2,700 rpm (red line).

Models ( )HC-C2YK-( )( )( )/( )( )8475( )-( ) or ( )( )8477( )-( ) Propellers

(k) If propeller models ( )HC-C2YK-( )( )( )/( )( )8475( )-( ) or ( )( )8477( )-( ) have not been inspected and reworked in accordance with AD 74-15-02, then do the following maintenance before further flight.

(1) Remove propeller from airplane.

(2) Modify pitch change mechanism, and replace blades with equivalent model blades prefixed with letter “F” using Hartzell Service Letter No. 69, dated November 30, 1971 and Hartzell SB No. 101D, dated December 19, 1974.

(3) Inspect and repair or replace, if necessary, using Hartzell SB No. 118A, dated February 15, 1977.

Alternative Methods of Compliance

(l) The Manager, Chicago Aircraft Certification Office, has the authority to approve alternative methods of compliance for this AD if requested using the procedures found in 14 CFR 39.19. Alternative methods of compliance to Hartzell SB No. 118A are Hartzell SB No. 118B, SB No. 118C, SB No. 118D, SB No. HC-SB-61-118E, SB No. HC-SB-61-118F, and Hartzell Manual 133C. Alternative method of compliance to Hartzell SB No. 101D is Hartzell Manual 133C. No adjustment in the compliance time is allowed.

Related Information

(m) None.

Issued in Burlington, Massachusetts, on August 8, 2006.
Francis A. Favara,
Manager, Engine and Propeller Directorate, Aircraft Certification Service.

[FR Doc. E6-13238 Filed 8-11-06; 8:45 am]

BILLING CODE 4910-13-P